DEPARTMENT OF ENERGY

Federal Energy Regulatory Commission

[Project No. 14887-000]

Southeast Oklahoma Power Corporation; Notice of Preliminary Permit Application Accepted for Filing and Soliciting Comments, Motions To Intervene, and Competing Applications

1. On July 31, 2018, Southeast Oklahoma Power Corporation, filed an application for a preliminary permit, pursuant to section 4(f) of the Federal Power Act (FPA), proposing to study the feasibility of the Southeast Oklahoma Pumped Storage Hydroelectric Project (project) to be located on the Kiamichi River, near the town of Whitesboro, in LeFlore County, Oklahoma. The sole purpose of a preliminary permit, if issued, is to grant the permit holder priority to file a license application during the permit term. A preliminary permit does not authorize the permit holder to perform any land-disturbing activities or otherwise enter upon lands or waters owned by others without the owners' express permission.

2. The proposed project would consist of the following: (1) A 2,165-foot-long, 302-foot-high concrete-faced rockfill upper dam with a 196.85-foot-long emergency spillway with a 600-foot-long, 30-foot-wide channel; (2) an upper reservoir with a surface area of 488.52 acres and a storage capacity of 43,633 acre-feet; (3) a 98.4-foot-long, 39.4-foot-high concrete upper intake/outlet structure; (4) a 6,370-foot-long, 27.8-foot-diameter steel and concrete headrace tunnel; (5) a 545-foot-long, 90-foot-wide, 185.4-foot-high underground concrete pumping station/powerhouse containing four pump/generating units with a total capacity of 1,200 megawatts; (6) a 7,439-foot-long, 27.8-foot-diameter tailrace tunnel; (7) a 98.4-foot-long, 39.4-foot-high concrete lower intake/outlet structure; (8) a 9,957-foot-long, 52.5-foot-high earthen lower dam with a 33-foot-long, 13-foot-high emergency spillway with a 1,640-foot-long tunnel to the Kiamichi River; (9) a lower reservoir with a surface area of 727 acres, and a storage capacity of 37,965 acre-feet; (10) two 20-inch-diameter, 675-foot-long pipes with 110 kilowatt pumps from the lower reservoir to the regulating reservoir; (11) a regulating reservoir with a surface area of 40 acres, and a storage capacity of 1,216 acre-feet; (12) two 20-inch-diameter, 690-foot-long pipes with two 110 kilowatt pumps from the Kiamichi River to the regulating reservoir; (13) a 40-foot-long, 40-foot-wide funnel shaped intake structure on the Kiamichi River, located 1.5-foot above the bottom of the Kiamichi River tapering down to 10-foot-long, 10-foot-wide section where it connects to the two pipes; and (14) a 124-mile-long transmission line to the Electric Reliability Council of Texas grid.

The proposed project would relocate State Road 248 (Post Oar Road) and 583rd Street because the lower reservoir would otherwise inundate them. The proposed project would have an estimated average annual generation of 4,368,000 megawatt-hours.

Applicant Contact: Mr. John Bobenic, Southeast Oklahoma Power Corporation, c/o Daytona Power Corp, 1800, 421-7 Avenue SW, Calgary, Alberta Canada T2P 4K9; phone: (578) 433-4933.

FERC Contact: Michael Spencer, (202) 502-6093, michael.spencer@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-14887-000.

More information about this project, including a copy of the application, can be viewed or printed on the “eLibrary” link of Commission's website at http://www.ferc.gov/docs-filing/elibrary.asp. Enter the docket number (P-14887) in the docket number field to access the document. For assistance, contact FERC Online Support.

Dated: November 16, 2018.
Kimberly D. Bose,
Secretary.

[FR Doc. 2018-25585 Filed 11-23-18; 8:45 am]

BILLING CODE 6717-01-P